DEPARTMENT OF DEFENSE

Office of the Secretary

[Docket ID: DOD-2010-OS-0063]

Privacy Act of 1974; System of Records

AGENCY: Defense Intelligence Agency, DoD.

ACTION: Notice to amend a system of records.

SUMMARY: The Defense Intelligence Agency is proposing to amend a system in its existing inventory of records systems subject to the Privacy Act of 1974, (5 U.S.C. 552a), as amended.

DATES: This proposed action will be effective without further notice on June 10, 2010 unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the Defense Intelligence Agency, DAN 1-C, 200 MacDill Blvd., Washington, DC 20340-0001.

The specific changes to the record system being amended are set forth below followed by the notice, as amended, published in its entirety. The proposed amendment is not within the purview of subsection (r) of the Privacy Act of 1974 (5 U.S.C. 552a), as amended, which requires the submission of new or altered systems reports.

Dated: May 5, 2010.
Mitchell S. Bryman,
Alternate OSD Federal Register Liaison Officer, Department of Defense.

LDIA 0011

System name:

Student Information Files (October 13, 2009; 74 FR 52464)

Changes:

* * * * *

Notification procedure:

Delete entry and replace with “Individuals seeking to determine whether information about themselves is contained in this system of records should address written inquiries to the Freedom of Information Act Office (DAN-1A/FOIA), Defense Intelligence Agency, 200 MacDill Blvd., Washington DC 20340-5100.

Individual should provide their full name, current address and telephone number.”

Record access procedures:

Delete entry and replace with “Individuals seeking access to information about themselves contained in this system should address written inquiries to the Freedom of Information Act Office (DAN-1A/FOIA), Defense Intelligence Agency, 200 MacDill Blvd., Washington, DC 20340-5100.

Individual should provide their full name, current address and telephone number.”

* * * * *

LDIA 0011

System name:

Student Information Files.

System location:

Defense Intelligence Agency, Washington, DC 20340-5100.

Categories of individuals covered by the system:

Current and former students of the National Defense Intelligence College.

Categories of records in the system:

Name, date of birth and Social Security Number (SSN), address, telephone number; information pertaining to personnel, past, present and projected assignments, educational background, academic/fitness reports, letters of course completion, rosters, grades and academic transcripts.

Authority for maintenance of the system:

DoD Instruction 3305.01, Section 2161 of Title 10, United States Code, American Association of Collegiate Registrars and Admissions Officer publication Retention of Records Guide for Retention and Disposal of Student Records, Middle States Commission on Higher Education Association Characteristics of Excellence in Higher Education: Requirements of Affiliation and Standards of Accreditation, and E.O. 9397 (SSN), as amended.

Purpose(s):

This information is collected to provide data for managing the student population at the Defense College and for historical documentation.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” set forth at the beginning of the DIA's compilation of systems of records notices apply to this system.

Policies and practices for storing, retrieving, accessing, retaining, and disposing of records in the system:

Storage:

Electronic storage media.

Retrievability:

By last name.

Safeguards:

Records are maintained in a building protected by security guards and are stored in vaults, safes or locked cabinets and are accessible only to authorized personnel who are properly screened, cleared and trained in the protection of privacy information. Electronic records are maintained on a classified and password protected system.

Retention and disposal:

Registration cards are held 2 years and then retired to the Washington National Records Center. They are destroyed when 25 years old.

System manager(s) and address:

President, National Defense Intelligence College, ATTN: MC, Washington, DC 20340-5100.

Notification procedure:

Individuals seeking to determine whether information about themselves is contained in this system of records should address written inquiries to the Freedom of Information Act Office (DAN-1A/FOIA), Defense Intelligence Agency, 200 MacDill Blvd., Washington, DC 20340-5100.

Individuals should provide their full name, current address and telephone number.

Record access procedures:

Individuals seeking access to information about themselves contained in this system should address written inquiries to the Freedom of Information Act Office (DAN-1A/FOIA), Defense Intelligence Agency, 200 MacDill Blvd., Washington, DC 20340-5100.

Individuals should provide their full name, current address and telephone number.

Contesting record procedures:

DIAs rules for accessing records, for contesting contents and appealing initial agency determinations are published in DIA Instruction 5400.001.

Record source categories:

Individual, military service component, educational institutions, previous employees and other Federal agencies.

Exemptions claimed for the system:

None.

[FR Doc. 2010-11035 Filed 5-10-10; 8:45 am]

BILLING CODE 5001-06-P